DEPARTMENT OF THE INTERIOR

National Park Service

[NPS-WASO-NAGPRA-NPS0027395; PPWOCRADN0-PCU00RP14.R50000]

Notice of Inventory Completion: The Field Museum of Natural History, Chicago, IL

AGENCY: National Park Service, Interior.

ACTION: Notice.

SUMMARY: The Field Museum has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Field Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Field Museum at the address in this notice by April 29, 2019.

ADDRESSES: Helen Robbins, The Field Museum, 1400 S Lakeshore Drive, Chicago, IL 60605, telephone (312) 655-7317, email hrobbins@fieldmuseum.org.

SUPPLEMENTARY INFORMATION: Notice is here given in accordance with the Native American Graves Protection and Repatriation Act (NAGPRA), 25 U.S.C. 3003, of the completion of an inventory of human remains and associated funerary objects under the control of the Field Museum, Chicago, IL. The human remains and associated funerary objects were removed from Mercer County, NJ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Field Museum professional staff in consultation with representatives of the Delaware Nation, Oklahoma; Delaware Tribe of Indians; and the Stockbridge Munsee Community, Wisconsin.

History and Description of the Remains

In 1892, human remains representing, at minimum, three individuals were removed from Trench 11 at Rowan Farm in Mercer County, NJ. The human remains were excavated by Ernest Volk as part of Volk's work for the World's Columbian Exposition. The Field Museum acquired the human remains in October 1893. The individuals removed from Trench 11, Grave 6 include an adult of unknown sex represented by partial cranial and post-cranial elements, as well as one adult of unknown sex represented by fragmentary cranial remains, found together with an individual of unknown age or sex represented only by a temporal bone. No known individuals were identified. The five associated funerary objects, found in Trench 11, Grave 6 are one non-diagnostic pot sherd and four culturally unmodified objects.

The site where these three individuals were found lies adjacent to a later excavation performed by Dorothy Cross. Volk's original excavation notes and the diagnostic stratigraphy of the site produced by Cross allowed for the dating of these individuals to the Late Woodland or historic period. These human remains were determined to be Native American based on their archeological context and collection history. Geographical, kinship, archeological, anthropological, historical, linguistic, and oral traditional evidence shows that the Late Woodland period group at the Rowan Farm site is affiliated with the present-day Delaware Tribes, who are represented by the Delaware Nation, Oklahoma; Delaware Tribe of Indians; and the Stockbridge Munsee Community, Wisconsin.

Determinations Made by the Field Museum

Officials of the Field Museum have determined that:

• Pursuant to 25 U.S.C. 3001(9), the human remains described in this notice represent the physical remains of three individuals of Native American ancestry.

• Pursuant to 25 U.S.C. 3001(3)(A), the five objects described in this notice are reasonably believed to have been placed with or near individual human remains at the time of death or later as part of the death rite or ceremony.

• Pursuant to 25 U.S.C. 3001(2), there is a relationship of shared group identity that can be reasonably traced between the Native American human remains and associated funerary objects and the Delaware Nation, Oklahoma; Delaware Tribe of Indians; and the Stockbridge Munsee Community, Wisconsin.

Additional Requestors and Disposition

Lineal descendants or representatives of any Indian Tribe or Native Hawaiian organization not identified in this notice that wish to request transfer of control of these human remains and associated funerary objects should submit a written request with information in support of the request to Helen Robbins, The Field Museum, 1400 S Lakeshore Drive, Chicago, IL 60605, telephone (312) 655-7317, email hrobbins@fieldmuseum.org, by April 29, 2019. After that date, if no additional requestors have come forward, transfer of control of the human remains and associated funerary objects to the Delaware Nation, Oklahoma; Delaware Tribe of Indians; and the Stockbridge Munsee Community, Wisconsin may proceed.

The Field Museum is responsible for notifying the Delaware Nation, Oklahoma; Delaware Tribe of Indians; and the Stockbridge Munsee Community, Wisconsin that this notice has been published.

Dated: February 25, 2019.
Melanie O'Brien,
Manager, National NAGPRA Program.

[FR Doc. 2019-05997 Filed 3-27-19; 8:45 am]

BILLING CODE 4312-52-P